DEPARTMENT OF ENERGY

Federal Energy Regulatory Commission

[Docket No. CP11-30-000; Docket No. CP11-41-000]

Tennessee Gas Pipeline Company; Dominion Transmission, Inc.; Notice of Onsite Environmental Review

On April 12 and 13, 2011, the Office of Energy Projects (OEP) staff will be in Wyoming County, New York, and Tioga and Bradford Counties, Pennsylvania to gather data for the environmental analysis of two related projects proposed by Tennessee Gas Pipeline Company (TGP) and Dominion Transmission, Inc. (DTI). On April 12, 2011, OEP staff will visit the location for the proposed Silver Springs Compressor Station associated with DTI's Ellisburg to Craigs Project under consideration in Docket No. CP11-41-000. On April 13, 2011, OEP staff will visit the proposed Loop 315 pipeline route associated with TGP's Northeast Supply Diversification Project under consideration in Docket No. CP11-30-000. These onsite reviews will assist staff in completing its evaluation of the environmental impacts of the proposed projects. Viewing of the areas is anticipated to be from public access points and adjacent existing right-of-way.

All interested parties planning to attend must provide their own transportation. Those attending should meet at the following locations:

Silver Springs Compressor Station Site Review, April 12, 2011, 9 a.m. (EST), Meet at DTI Randall Gate Site, 4478 Oak Hill Road (near intersection of, Oak Hill Road and West Lake Road), Silver Springs, NY 14550.

Loop 315 Site Review, April 13, 2011, 1 p.m. (EST), Meet at TGP Compressor Station 317, 1249 Tennessee Gas Road, (near intersection of Routes 14 and 514), Troy, PA 16947.

Please use the Federal Energy Regulatory Commission's free eSubscription service to keep track of all formal issuances and submittals in these dockets. This can reduce the amount of time you spend researching proceedings by automatically providing you with notification of these filings, document summaries, and direct links to the documents. To register for this service, go to http://www.ferc.gov/esubscribenow.htm.

Information about specific onsite environmental reviews is posted on the Commission's calendar at http://www.ferc.gov/EventCalendar/EventsList.aspx. For additional information, contact Office of External Affairs at (866) 208-FERC.

Dated: March 29, 2011.
Kimberly D. Bose,
Secretary.

[FR Doc. 2011-8029 Filed 4-4-11; 8:45 am]

BILLING CODE 6717-01-P